GENERAL SERVICES ADMINISTRATION

[FMR Bulletin-PBS-2012-03; Docket 2012-0002; Sequence 11]

Federal Management Regulation; FMR Bulletin PBS-2012-03; Redesignations of Federal Buildings

AGENCY: Public Buildings Service (PBS), General Services Administration (GSA).

ACTION: Notice of a bulletin.

SUMMARY: The attached bulletin announces the designation and redesignation of three Federal buildings.

Expiration Date: This bulletin announcement expires October 31, 2012. The building designation and redesignations remains in effect until canceled or superseded by another bulletin.

FOR FURTHER INFORMATION CONTACT: U.S. General Services Administration, Public Buildings Service (PBS), 1800 F Street NW., Washington, DC 20405, telephone number: (202) 501-1100.

Dated:
Dan Tangherlini,
Acting Administrator of General Services.

U.S. GENERAL SERVICES ADMINISTRATION

REDESIGNATIONS OF FEDERAL BUILDINGS

TO: Heads of Federal Agencies

SUBJECT: Redesignations of Federal Buildings

1. What is the purpose of this bulletin? This bulletin announces the designation and redesignation of three Federal buildings.

2. When does this bulletin expire? This bulletin announcement expires October 31, 2012. The building designation and redesignations remain in effect until canceled or superseded by another bulletin.

3. Designation. The name of the designated property (between the United States Federal Courthouse and the Ed Jones Building located at 109 South Highland Avenue in Jackson, Tennessee) is as follows:

M.D. Anderson Plaza

Jackson, TN 38301

4. Redesignation. The former and new names of the redesignated buildings are as follows:

Former name | New name
United States Courthouse, 80 Lafayette Street, Jefferson City, MO 65101 | Christopher S. Bond United States Courthouse, 80 Lafayette Street, Jefferson City, MO 65101.
United States Courthouse, 222 West 7th Avenue, Anchorage, AL 99501 | James M. Fitzgerald United States Courthouse, 222 West 7th Avenue, Anchorage, AL 99501.

5. Who should we contact for further information regarding redesignation of these Federal buildings? U.S. General Services Administration, Public Buildings Service (PBS), 1800 F Street, NW., Washington, DC 20405, telephone number: (202) 501-1100.

Dated: June 7, 2012

Dan Tangherlini,

Acting Administrator of General Services.

[FR Doc. 2012-14416 Filed 6-12-12; 8:45 am]

BILLING CODE 6820-23-P